LIBRARY OF CONGRESS

Copyright Royalty Board

37 CFR Part 387

[Docket No. 15-CRB-0010-CA-S]

Adjustment of Cable Statutory License Royalty Rates; Correction

AGENCY: Copyright Royalty Board, Library of Congress.

ACTION: Proposed rule; correction and reopening of comment period.

SUMMARY: The Copyright Royalty Judges (Judges) are correcting one of the references to a docket number in a proposed rule that appeared in the Federal Register on July 30, 2018, and are reopening for an additional fourteen days the period for comments on modified proposed regulations to require affected cable systems to pay a separate per-telecast royalty (a Sports Surcharge) in addition to the other royalties that those cable systems must pay under Section 111 of the Copyright Act.

DATES: The comment period for the modified proposed rule published July 30, 2018, at 83 FR 36509, is reopened. Comments should be received on or before September 12, 2018.

ADDRESSES: You may submit comments and objections, identified by docket number 15-CRB-0010-CA-S, by any of the following methods:

CRB's electronic filing application: Submit comments online in eCRB at https://app.crb.gov/.

U.S. mail: Copyright Royalty Board, P.O. Box 70977, Washington, DC 20024-0977; or

Overnight service (only USPS Express Mail is acceptable): Copyright Royalty Board, P.O. Box 70977, Washington, DC 20024-0977; or

Commercial courier: Address package to: Copyright Royalty Board, Library of Congress, James Madison Memorial Building, LM-403, 101 Independence Avenue SE, Washington, DC 20559-6000. Deliver to: Congressional Courier Acceptance Site, 2nd Street NE and D Street NE, Washington, DC; or

Hand delivery: Library of Congress, James Madison Memorial Building, LM-401, 101 Independence Avenue SE, Washington, DC 20559-6000.

Instructions: Unless submitting online, commenters must submit an original, two paper copies, and an electronic version on a CD. All submissions must include a reference to the CRB and this docket number. All submissions will be posted without change to eCRB at https://app.crb.gov/ including any personal information provided.

Docket: For access to the docket to read submitted background documents or comments, go to eCRB, the Copyright Royalty Board's electronic filing and case management system, at https://app.crb.gov/ and search for docket number 15-CRB-0010-CA-S.

FOR FURTHER INFORMATION CONTACT: Anita Blaine, CRB Program Specialist, by telephone at (202) 707-7658 or email at crb@loc.gov.

SUPPLEMENTARY INFORMATION: On Monday, July 30, 2018, the Judges published in the Federal Register for comment modified proposed regulations to require affected cable operators to pay a Sports Surcharge royalty. In FR Doc. 2018-16175 appearing on page 36509 the following correction is made:

In the ADDRESSES section the docket number by which commenters were to identify their comments and objections is changed from “17-CRB-0001-BER (2019-2023)” to read “15-CRB-0010-CA-S”. The Judges hereby correct that docket number and reopen the comment period for fourteen days to give any interested parties who were unable to file comments because of the incorrect docket number a chance to submit comments.

Dated: August 30, 2018.
David R. Strickler,
Copyright Royalty Judge.

[FR Doc. 2018-19217 Filed 9-5-18; 8:45 am]

BILLING CODE 1410-72-P